DEPARTMENT OF HEALTH AND HUMAN SERVICES

Food and Drug Administration

Advisory Committee; Renewals

AGENCY: Food and Drug Administration, HHS.

ACTION: Notice.

SUMMARY: The Food and Drug Administration (FDA) is announcing the renewal of certain FDA advisory committees by the Commissioner of Food and Drugs (the Commissioner). The Commissioner has determined that it is in the public interest to renew the charters of the committees listed in the following table for an additional 2 years beyond charter expiration date. The new charters will be in effect until the dates of expiration listed in the following table. This notice is issued under the Federal Advisory Committee Act of October 6, 1972 (Public Law 92-463 (5 U.S.C. app. 2)).

DATES: Authority for these committees will expire on the dates indicated in the following table unless the Commissioner formally determines that renewal is in the public interest.

Name of committee | Date of expiration
Science Board to the Food and Drug Administration | June 26, 2004
Allergenic Products Advisory Committee | July 9, 2004
Cardiovascular Drugs Advisory Committee | August 27, 2004
Endocrinologic and Metabolic Drugs Advisory Committee | August 27, 2004
Oncologic Drugs Advisory Committee | September 1, 2004
Anti-Infective Drugs Advisory Committee | October 7, 2004
Dermatologic and Ophthalmic Drugs Advisory Committee | October 7, 2004
Biological Response Modifiers Advisory Committee | October 28, 2004
Technical Electronic Product Radiation Safety Standards Committee | December 24, 2004
Antiviral Drugs Advisory Committee | February 15, 2005

FOR FURTHER INFORMATION CONTACT: Linda A. Sherman, Advisory Committee Oversight and Management Staff (HF-4), Food and Drug Administration, 5600 Fishers Lane, Rockville, MD 20857, 301-827-1220.

Dated: March 10, 2003.
Linda Arey Skladany,
Associate Commissioner for External Relations.

[FR Doc. 03-6397 Filed 3-17-03; 8:45 am]

BILLING CODE 4160-01-S